DEPARTMENT OF THE INTERIOR

Bureau of Land Management

[LLORR40000.L12320000.FV0000.LVRDOR130000.14XL5413AR.HAG 15-0234]

Notice of Intent To Collect Fees on Public Land in Douglas County, Oregon, Roseburg District, Scaredman Recreation Site

AGENCY: Bureau of Land Management, Department of the Interior.

ACTION: Notice of intent.

SUMMARY: Pursuant to applicable provisions of the Federal Lands Recreation Enhancement Act (FLREA), the Bureau of Land Management (BLM), Roseburg District Office, is proposing to begin collecting fees for overnight camping at Scaredman Recreation Site, located in Douglas County, Oregon.

DATES: To ensure that comments will be considered, the BLM must receive written comments on the proposal to collect fees by February 3, 2017. Comments received in person or by electronic mail after this date may not be considered by the BLM. Effective no less than six months after publication of this notice, the BLM Roseburg District will initiate fee collection at Scaredman Recreation Site, unless the BLM publishes a Federal Register notice to the contrary.

ADDRESSES: You may submit comments by mail, hand delivery, or electronic mail.

Mail or hand-delivery: BLM Roseburg District Office, 777 NW Garden Valley Boulevard, Roseburg, OR 97471.

Electronic mail: BLM_OR_RB_mail@blm.gov. If you submit comments by electronic mail, please indicate “Attn: Scaredman Fee Proposal” in your subject line, and include your name and return address.

Copies of the fee proposal are available at the BLM Roseburg District Office at the above address and online at http://www.blm.gov/or/districts/roseburg/index.php.

FOR FURTHER INFORMATION CONTACT: Erik Taylor, Supervisory Outdoor Recreation Planner, Roseburg District Office, 777 NW Garden Valley Blvd., Roseburg, OR, 97471, by phone at (541) 440-4930, or by email at BLM_OR_RB_mail@blm.gov. Persons who use a telecommunications device for the deaf (TDD) may call the Federal Relay Service at 1(800) 877-8339 to contact the above individual(s) during normal business hours. The Service is available 24 hours a day, 7 days a week, to leave a message or question with the above individuals. You will receive a reply during normal business hours.

SUPPLEMENTARY INFORMATION: Scaredman Recreation Site (T. 25S., R. 1W., Sec. 24) is located north of the Rogue-Umpqua Scenic Byway on Canton Creek Road (BLM Road 24-1-31). Under Section 3(g) of the Federal Lands Recreation Enhancement Act (FLREA), the Scaredman Recreation Site area will qualify, as is, as a site wherein visitors can be charged an “Expanded Amenity Recreation Fee.” Visitors wishing to use the expanded amenities that exist at the site would purchase a recreation use permit as described at 43 CFR part 2930. Pursuant to FLREA and implementing regulations at 43 CFR Subpart 2933, fees may be charged for overnight camping where specific amenities and services are provided. Specific visitor fees will be identified and posted at the site. Fees must be paid at the self-service pay station located at the camping areas. People holding the America the Beautiful—Senior Pass and/or Access Pass will be entitled to a 50 percent fee reduction on overnight fees.

The Scaredman Recreation site is a semi-primitive campground on Canton Creek in a semi-remote area. Canton Creek Road is 40 miles east of Roseburg off of the Rogue-Umpqua National Scenic Byway (Highway 138). Scaredman provides 10 individual tent campsites, drinking water, vault toilets, refuse containers, fire rings, a campground host and reasonable visitor protection. There are several undeveloped water play areas to enjoy along Canton Creek and Steamboat Creek. Fly fishing is available 3 miles south on the North Umpqua River. This recreation site is the only one in the Roseburg District that provides such amenities and recreation opportunities and that does not currently charge a fee. In the past years, prior to 2013, it has been used heavily because it is the only “free” campground in the area. The likely recreation season for Scaredman will be from mid-May through mid-October.

Camping fees will be $10.00/per site, per night, which would be consistent with other established fee sites in the area including other BLM-administered sites in the area and those overnight sites managed by the Umpqua National Forest and Douglas County Parks Department. Future adjustments in the fees charged could be made in accordance with the Roseburg District Business Plan for recreation sites and with concurrence from the Southwest Oregon Resource Advisory Council (SWOR RAC). The Bureau of Land Management, Roseburg District has notified and involved the public about the proposal to collect fees and the SWOR RAC approved the fee proposal in March of 2016, following FLREA guidelines. Copies of the business plan are available at the BLM Roseburg Office and Oregon State Office.

The BLM has found that recreation fee proposals are of a procedural nature and are not identified as major Federal actions, and are therefore excluded from environmental review under Section 102(2)(C) of the National Environmental Policy Act of 1969 (NEPA), 42 U.S.C. 4332(C), pursuant to 43 CFR 46.210(i). In addition, the fee proposals do not present any of the 12 extraordinary circumstances listed at 43 CFR 46.215.

The Bureau of Land Management, Roseburg District welcomes public comments on this proposal. Before including your address, phone number, email address, or other personally identifiable information in your comment, be advised that your entire comment—including your personally identifiable information—may be made publicly available at any time. While you can ask us in your comment to withhold from public review your personally identifiable information, we cannot guarantee that we will be able to do so.

Authority: 16 U.S.C. 6803(b) and 43 CFR 2932.13.

Abbie Jossie,
BLM Roseburg District Manager.

[FR Doc. 2016-29103 Filed 12-2-16; 8:45 am]

BILLING CODE 4310-33-P